DEPARTMENT OF HEALTH AND HUMAN SERVICES

Centers for Disease Control and Prevention

[60-Day-12-12RI]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Ron Otten, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Information Collection on foreign-born, migrant, refugee and other mobile populations with current or future ties to the United States—New—National Center for Emerging and Zoonotic Infectious Diseases (NCEZID), Division of Global Migration and Quarantine (DGMQ), Centers for Disease Control and Prevention (CDC).

Background and Brief Description

The Centers for Disease Control and Prevention (CDC), National Center for Emerging and Zoonotic Infectious Diseases (NCEZID), Division of Global Migration and Quarantine (DGMQ), requests approval of a new “generic clearance” to better understand the health status, risk factors for disease and other health outcomes among foreign-born, migrant, refugee and other mobile populations with current or future ties to the United States. Insights gained from information collections will assist in the planning, implementation and improvement of disease prevention and control activities.

The information collection for which approval is sought is in accordance with DGMQ's mission to reduce morbidity and mortality among immigrants, refugees, travelers, expatriates, and other globally mobile populations, and to prevent the introduction, transmission, or spread of communicable diseases from foreign countries into the United States. This mission is supported by delegated legal authorities.

Section 361 of the Public Health Service (PHS) Act (42 USC 264) authorizes the Secretary of Health and Human Services (HHS) to make and enforce regulations necessary to prevent the introduction, transmission, or spread of communicable diseases from foreign countries or possessions into the United States and from one state or possession into any other state or possession. These regulations are codified in 42 Code of Federal Regulations (CFR) Parts 70 and 71.

The Secretary of Health and Human Services also has the legal authority to establish regulations outlining the requirements for the medical examination of aliens before they may be admitted into the United States. This authority is provided under Section 212(a)(1)(A) of the Immigration and Nationality Act (8 U.S.C. 1182(a)(1)(A)) and Section 325 of the Public Health Service Act. These regulations are codified in 42 CFR part 34, which establish requirements that determine whether aliens can be admitted into the United States.

Successful implementation of DGMQ's regulatory authority and public health mission requires a variety of information collections with foreign-born, migrant and other mobile populations with current or future ties to the United States. These include but are not limited to: Immigrants, international travelers, asylees and refugees, expatriates, border region residents, temporary migrants, and permanent alien residents.

Numerous types of information will be collected under the auspices of this generic OMB clearance. These include, but are not limited to, knowledge, attitudes, beliefs, behavioral intentions, practices, behaviors, skills, self-efficacy, and health information needs and sources.

The proposed generic clearance is needed for DGMQ to fulfill its regulatory authority and public health mission, and will allow DGMQ to quickly collect important health-related information from the aforementioned hard-to-reach populations in order to improve routine and emergency public health programs and activities.

DGMQ staff proposes that data collection methods for this package will include but are not limited to: interviews, focus groups, and surveys. Depending on the specific purpose, data collection methods may be conducted either in-person, by telephone, on paper, or online. Data may be collected in quantitative and/or qualitative forms. Each proposed information collection will submit the tools used for data collection, including screenshots of web-based surveys, in the statement provided to OMB.

DGMQ estimates that 59,550 respondents will be screened in order for 19,850 to be involved in information collection activities each year. It is estimated that information collection activities will total 21,992 burden hours per year.

Estimated Annualized Burden Hours
Type of respondent | Form name | Number of respondents | Number of responses per respondent | Average burden per response (in hours) | Total burden hours
Foreign-born, migrant, refugee and other mobile populations | Screeners for Surveys, Focus Groups, Interviews | 39,700 | 1 | 10/60 | 6,617
Foreign-born, migrant, refugee and other mobile populations | Surveys | 19,200 | 1 | 45/60 | 14,400
Foreign-born, migrant, refugee and other mobile populations | Focus Groups, Interviews | 650 | 1 | 1.5 | 975
Total |  |  |  |  | 21,992

Dated: August 28, 2012.
Ron A, Otten,
Director, Office of Scientific Integrity, Office of the Associate Director for Science, Office of the Director, Centers for Disease Control and Prevention.

[FR Doc. 2012-21720 Filed 8-31-12; 8:45 am]

BILLING CODE 4163-18-P